DEPARTMENT OF ENERGY

Federal Energy Regulatory Commission

Combined Notice of Filings

Take notice that the Commission has received the following Natural Gas Pipeline Rate and Refund Report filings:

Docket Numbers: RP19-352-000.

Applicants: Sea Robin Pipeline Company, LLC.

Description: Report Filing: RP19-352 Rate Case Refund Report.

Filed Date: 2/10/20.

Accession Number: 20200210-5080.

Comments Due: 5 p.m. ET 2/24/20.

Docket Numbers: RP20-508-000.

Applicants: BBT AlaTenn, LLC.

Description: § 4(d) Rate Filing: Company name change normal to be effective 3/11/2020.

Filed Date: 2/10/20.

Accession Number: 20200210-5076.

Comments Due: 5 p.m. ET 2/24/20.

Docket Numbers: RP20-509-000.

Applicants: BBT Midla, LLC.

Description: § 4(d) Rate Filing: Company name change normal to be effective 3/11/2020.

Filed Date: 2/10/20.

Accession Number: 20200210-5078.

Comments Due: 5 p.m. ET 2/24/20.

Docket Numbers: RP20-510-000.

Applicants: BBT Trans-Union Interstate Pipeline, L.P.

Description: § 4(d) Rate Filing: Company name change to be effective 3/11/2020.

Filed Date: 2/10/20.

Accession Number: 20200210-5079.

Comments Due: 5 p.m. ET 2/24/20.

Docket Numbers: RP20-511-000.

Applicants: Talos Exploration, LLC,ILX Prospect Diller, LLC,ILX Prospect Marmalard, LLC,ILX Prospect MC79, LLC,ILX Prospect Niedermeyer, LLC,ILX Prospect Odd Job, LLC,ILX Prospect Caddis, LLC,ILX Prospect Crown & Anchor, LLC,ILX Prospect Dantzler, LLC,ILX Prospect Claiborne, LLC,ILX I Sales & Transport, LLC.

Description: Joint Petition For Limited Waiver, et al. of Talos Exploration, LLC, et al. under RP20-511.

Filed Date: 2/10/20.

Accession Number: 20200210-5143.

Comments Due: 5 p.m. ET 2/18/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2020.
Nathaniel J. Davis, Sr.,
Deputy Secretary.

[FR Doc. 2020-03188 Filed 2-18-20; 8:45 am]

BILLING CODE 6717-01-P